ENVIRONMENTAL PROTECTION AGENCY

[EPA-HQ-OPP-2014-0440; FRL-9923-29]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows an August 15, 2014 Federal Register Notice of Receipt of Requests from the registrants listed in Table 2 of Unit II. to voluntarily cancel these product registrations. In the August 15, 2014 notice, EPA indicated that it would issue an order implementing the cancellations, unless the Agency received substantive comments within the 180-day comment period that would merit its further review of these requests, or unless the registrants withdrew their requests. The Agency received comments on the notice but none merited its further review of the requests. Further, the Agency received notice from registrants to withdraw certain cancellation requests. Accordingly, EPA hereby issues in this notice a cancellation order granting the requested cancellations. Any distribution, sale, or use of the products subject to this cancellation order is permitted only in accordance with the terms of this order, including any existing stocks provisions.

DATES: The cancellations are effective March 17, 2015.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2014-0440, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3 (7 U.S.C. 136a). These registrations are listed in sequence by registration number in Table 1 of this unit.

Table 1—Product Cancellations
Registration No. | Company No. | Product name | Chemical name
000100-01135 | 100 | ZPP 1560 AS Herbicide | Glyphosate diammonium salt.
000100-01293 | 100 | Traxion GT | Glyphosate.
000100-01325 | 100 | Flexstar GT Herbicide | Glyphosate; Sodium salt of fomesafen.
000100-01518 | 100 | Naviva LF | Pasteuria spp.—Pr3.
000264-00567 | 264 | Balance Herbicide | Isoxaflutole.
000264-00843 | 264 | Iodosulfuron 10 WDG Herbicide | Iodosulfuron-methyl-sodium.
000264-00846 | 264 | AE 1283742 | Clothianidin, Imidacloprid.
000264-00942 | 264 | Gustafson Thiram 50WP Dyed | Thiram.
000264-00951 | 264 | Kodiak Concentrate Biological Fungicide | Bacillus subtilis GB03.
000264-00969 | 264 | Gustafson Allegiance 50WP | Metalaxyl.
000264-00970 | 264 | Kodiak Flowable Biological Fungicide | Bacillus subtilis GB03.
000264-01076 | 264 | Vortex 2000 | Ipconazole; Metalaxyl.
000352-00702 | 352 | Griffin Early Harvest PGR | Cytokinin; Gibberellic acid; Indole-3-butyric acid.
000464-00694 | 464 | Ucarcide 150 Antimicrobial | Glutaraldehyde.
000464-00696 | 464 | Ucarsan Sanitizer 4128 | Glutaraldehyde.
000464-00712 | 464 | Piror 842 Slimicide | Quaternary ammonium compounds; Glutaraldehyde.
000961-00283 | 961 | Greenview Preen 'n Green | Trifluralin.
000961-00390 | 961 | Lebanon Lawn Fertilizer contains Confront and Team | Benfluralin; Clopyralid, triethanolamine; Triclopyr, triethylamine salt; Trifluralin.
000961-00411 | 961 | Lebanon Permethrin 0.5 Lawn Insect Control with Fertilizer | Permethrin.
001381-00230 | 1381 | IMID-TEBU-META | Imidacloprid; Metalaxyl; Tebuconazole.
001529-00032 | 1529 | Nuosept 101 Preservative | 4,4-Dimethyloxazolidine.
001529-00037 | 1529 | Nuosept 166 Preservative | 4,4-Dimethyloxazolidine.
001839-00047 | 1839 | CD 4.5 Detergent/Disinfectant | Quaternary ammonium compounds.
001839-00064 | 1839 | BTC 776-80% | Quaternary ammonium compounds.
001839-00066 | 1839 | BTC 2565 Concentrate for the Manufacture of Algaecides | Quaternary ammonium compounds.
001839-00106 | 1839 | 10% BTC 2125M Powder Fabric Softener/Sanitizer. | Quaternary ammonium compounds.
001839-00110 | 1839 | 20% Active Powder Commercial Fabric Softener/Sanitizer | Quaternary ammonium compounds.
001839-00111 | 1839 | 5% Powdered Fabric Softener/Sanitizer | Quaternary ammonium compounds.
001839-00129 | 1839 | BTC 99 Industrial Water Cooling Tower | Quaternary ammonium compounds.
001839-00132 | 1839 | 5% BTC 99 Swimming Pool Algaecide | Quaternary ammonium compounds.
001839-00133 | 1839 | 10% BTC 99 Swimming Pool Algaecide | Quaternary ammonium compounds.
001839-00134 | 1839 | 50% BTC 99 Swimming Pool Algaecide | Quaternary ammonium compounds.
001839-00139 | 1839 | 20% BTC 99 Industrial And/Or Commercial Recirculating Cooling Water | Quaternary ammonium compounds.
001839-00144 | 1839 | NP 5.5 HW (D&F) Detergent/Disinfectant | Quaternary ammonium compounds.
001839-00154 | 1839 | Scented 10% BTC 2125M Disinfectant | Quaternary ammonium compounds.
001839-00177 | 1839 | NonHard Water Neutral Disinfectant Cleaner | Quaternary ammonium compounds.
001839-00180 | 1839 | 25% BTC 99 Swimming Pool Algaecide | Quaternary ammonium compounds.
001839-00192 | 1839 | BQ451-5 Biocide | Quaternary ammonium compounds.
001839-00193 | 1839 | BQ1416-5 Biocide | Quaternary ammonium compounds.
001839-00194 | 1839 | BQ361-5 Biocide | Quaternary ammonium compounds.
001839-00195 | 1839 | BQ1416-8 Biocide | Quaternary ammonium compounds.
001839-00196 | 1839 | BQ621-5 Biocide | Quaternary ammonium compounds.
001839-00197 | 1839 | BEQ442-8 Biocide | Quaternary ammonium compounds.
001839-00198 | 1839 | BEQ442-5 Biocide | Quaternary ammonium compounds.
001839-00199 | 1839 | DAQ1010-5 Biocide | Quaternary ammonium compounds.
001839-00200 | 1839 | Albemarle DAQ1010-8 Biocide | Quaternary ammonium compounds.
001839-00201 | 1839 | Albemarle AC76-5 Biocide | Quaternary ammonium compounds.
001839-00202 | 1839 | BQ451-8 Biocide | Quaternary ammonium compounds.
001839-00203 | 1839 | Albemarle DAQ1010-5-W | Quaternary ammonium compounds.
001839-00204 | 1839 | BQ451-5-WW Biocide | Quaternary ammonium compounds.
001839-00205 | 1839 | AC76-5-PW Biocide | Quaternary ammonium compounds.
002693-00214 | 2693 | Micron Extra P-Blue | Cuprous oxide; Tolylfluanid.
002693-00215 | 2693 | Ultra P-Blue | Cuprous oxide; Tolylfluanid.
002792-00069 | 2792 | Decco 270 Aerosol | Chlorpropham.
003008-00072 | 3008 | Osmose Arsenic Acid 75% | Arsenic acid.
003862-00075 | 3862 | Mint 7 | Quaternary ammonium compounds.
003862-00185 | 3862 | Spur-Tex Disinfectant Cleaner-Deodorant | Quaternary ammonium compounds.
005813-00081 | 5813 | CGW | Isopropyl alcohol.
007969-00248 | 7969 | BAS 516 ST Seed Treatment Fungicide | Boscalid; Pyraclostrobin.
034704-01026 | 34704 | First Choice Milsana Bioprotectant | Reynoutria sachalinensis.
035935-00030 | 35935 | Glyphosate Technical | Glyphosate.
035935-00033 | 35935 | Glyphosate Technical | Glyphosate.
035935-00034 | 35935 | Glyphosate Technical (NUP-05068) | Glyphosate.
035935-00037 | 35935 | Imazapyr Technical | Imazapyr.
039967-00026 | 39967 | Preventol WB Plus | o-Phenylphenol, sodium salt; Sodium p-chloro-m-cresolate; Sodium pyrithione.
039967-00036 | 39967 | Metasol CB 225-AD | 1-Bromo-1-(bromomethyl)-1,3-propanedicarbonitrile.
039967-00037 | 39967 | Metasol CB 225-LC | 1-Bromo-1-(bromomethyl)-1,3-propanedicarbonitrile.
039967-00040 | 39967 | Metasol CB-220 | 1-Bromo-1-(bromomethyl)-1,3-propanedicarbonitrile.
039967-00049 | 39967 | Preventol A5-S | Tolylfluanid.
057787-00029 | 57787 | Proteam Power Magic Superoxidizer | Boron sodium oxide (B4Na2O7), pentahydrate; Calcium hypochlorite.
062719-00470 | 62719 | Halofenozide Technical Insecticide | Halofenozide.
062719-00471 | 62719 | Mach 2 2SC | Halofenozide.
062719-00472 | 62719 | Mach 2 2.5% Granular Turf Insecticide | Halofenozide.
062719-00473 | 62719 | Mach 2 1.5G Specialty Insecticide | Halofenozide.
062719-00474 | 62719 | Mach 2 Plus Fertilizer 0.86% A.I. | Halofenozide.
062719-00475 | 62719 | Mach 2* Plus Fertilizer 0.57% A.I. | Halofenozide.
062719-00476 | 62719 | Mach 2 Manufacturing Use Concentrate | Halofenozide.
062719-00489 | 62719 | Mach 2 Plus Fertilizer (1% A.I.) | Halofenozide.
062719-00490 | 62719 | Mach 2 Plus Fertilizer (1.33% A.I.) | Halofenozide.
071368-00070 | 71368 | Bromoxynil Technical 94% | Bromoxynil.
071368-00071 | 71368 | Bromox Octanoic Acid Technical | Bromoxynil octanoate.
AL-98-0004 | 59639 | Select Herbicide | Clethodim.
AR-08-0003 | 279 | Brigade 2EC Insecticide/Miticide | Bifenthrin.
AR-08-0017 | 100 | Dual Magnum | S-Metolachlor.
AR-13-0001 | 241 | Raptor Herbicide | Imazamox.
AR-96-0005 | 59639 | Cobra Herbicide | Lactofen.
AZ-07-0012 | 279 | Brigade 2EC Insecticide/Miticide | Bifenthrin.
AZ-08-0004 | 71512 | Beleaf 50SG Insecticide | Flonicamid.
CA-00-0013 | 264 | Rovral 4 Flowable Fungicide | Iprodione.
CA-01-0029 | 59639 | Esteem Ant Bait | Pyriproxyfen.
CA-02-0014 | 264 | Rovral 4 Flowable Fungicide | Iprodione.
CA-03-0010 | 50534 | Daconil Weather Stik Flowable Fungicide | Chlorothalonil.
CA-06-0028 | 352 | DuPont Vydate C-LV Insecticide/Nematicide | Oxamyl.
CA-94-0023 | 59639 | Danitol 2.4 EC Spray (Insecticide-Miticide) | Fenpropathrin.
CA-96-0025 | 34704 | Prometryne 4L Herbicide | Prometryn.
CO-01-0007 | 59639 | Distance Insect Growth Regulator | Pyriproxyfen.
CO-11-0001 | 81880 | GWN-3061 | Halosulfuron-methyl.
CT-03-0002 | 59639 | Valor Herbicide | Flumioxazin.
FL-00-0002 | 59639 | Knack Insect Growth Regulator | Pyriproxyfen.
FL-12-0003 | 100 | Actigard 50WG | Acibenzolar-s-methyl.
FL-89-0032 | 59639 | Cobra Herbicide | Lactofen.
FL-94-0011 | 59639 | Tame 2.4 EC Spray | Fenpropathrin.
GA-03-0001 | 352 | Avaunt Insecticide | Indoxacarb.
GA-98-0006 | 59639 | Select Herbicide | Clethodim.
HI-97-0003 | 34704 | Clean Crop Carbaryl 4L | Carbaryl.
ID-00-0018 | 100 | Wakil XL | Cymoxanil; Fludioxonil; Metalaxyl-M.
ID-06-0019 | 5481 | Orthene 97 | Acephate.
ID-09-0017 | 100 | Scholar SC | Fludioxonil.
ID-93-0015 | 264 | Rovral 4 Flowable Fungicide | Iprodione.
ID-94-0001 | 264 | Rovral 4 Flowable Fungicide | Iprodione.
ID-96-0015 | 5481 | Assert Herbicide | Imazamethabenz.
IL-07-0004 | 59639 | Safari 20 SG Insecticide | Dinotefuran.
IN-07-0002 | 59639 | Safari 20 SG Insecticide | Dinotefuran.
KY-11-0034 | 400 | Terrazole 4EC | Etridiazole.
LA-03-0003 | 352 | Velpar L Herbicide | Hexazinone.
LA-03-0004 | 352 | Velpar DF Herbicide | Hexazinone.
LA-05-0009 | 66222 | White Guard 90 SP Cotton Insecticide | Acephate.
LA-06-0001 | 34704 | Permethrin | Permethrin.
LA-08-0002 | 7969 | Termidor SC Termiciticide/Insecticide | Fipronil.
LA-08-0003 | 7969 | Termidor 80 WG Termiciticide/Insecticide | Fipronil.
LA-12-0011 | 100 | Gramoxone Inteon | Paraquat dichloride.
LA-12-0017 | 10163 | Savey Technical | Hexythiazox.
LA-12-0018 | 7969 | Termidor SC Termiticide/Insecticide | Fipronil.
MI-07-0005 | 59639 | Safari 20 SG Insecticide | Dinotefuran.
MI-07-0006 | 100 | Cannonball | Fludioxonil.
MI-10-0003 | 100 | Scholar SC | Fludioxonil.
MN-09-0004 | 100 | Dual Magnum | S-Metolachlor.
MN-09-0006 | 100 | Reglone Dessicant | Diquat dibromide.
MN-11-0003 | 81880 | GWN-3061 | Halosulfuron-methyl.
MO-05-0008 | 59639 | Valor SX Herbicide | Flumioxazin.
MO-05-0009 | 59639 | Valor SX Herbicide | Flumioxazin.
MO-05-0010 | 59639 | Valor SX Herbicide | Flumioxazin.
MO-98-0001 | 59639 | Resource Herbicide | Flumiclorac.
MS-02-0023 | 241 | Phantom Termiticide-Insecticide | Chlorfenapyr.
MS-05-0010 | 66222 | Acephate 90 SP Cotton Insecticide | Acephate.
MS-08-0005 | 100 | Dual Magnum | S-Metolachlor.
MS-81-0014 | 264 | Monitor 4 | Methamidophos.
MS-81-0055 | 264 | Monitor 4 | Methamidophos.
MS-96-0001 | 59639 | Cobra Herbicide | Lactofen.
NC-00-0002 | 59639 | Select Herbicide | Clethodim.
NC-03-0002 | 352 | DuPont Staple Herbicide | Pyrithiobac-sodium.
NC-03-0007 | 59639 | Velocity Herbicide | Bispyribac-sodium.
NC-06-0002 | 100 | Dual Magnum Herbicide | S-Metolachlor.
NC-87-0005 | 100 | Reflex 2LC Herbicide | Sodium salt of fomesafen.
ND-03-0012 | 352 | DuPont Asana XL Insecticide | Esfenvalerate.
ND-07-0004 | 34704 | Makaze Herbicide | Glyphosate-isopropylammonium.
ND-11-0001 | 81880 | GWN-3061 | Halosulfuron-methyl.
NE-11-0002 | 81880 | GWN-3061 | Halosulfuron-methyl.
NJ-05-0002 | 100 | Abound Flowable Fungicide | Azoxystrobin.
NJ-08-0003 | 59639 | Safari 20 SG Insecticide | Dinotefuran.
NV-09-0002 | 5481 | Zeal Miticide 1 | Etoxazole.
OH-01-0003 | 59639 | Valor WDG Herbicide | Flumioxazin.
OH-02-0003 | 59639 | Valor WDG Herbicide | Flumioxazin.
OH-07-0002 | 59639 | Safari 20 SG Insecticide | Dinotefuran.
OH-11-0006 | 400 | Terrazole 4EC | Etridiazole.
OK-97-0001 | 352 | DuPont Staple Herbicide | Pyrithiobac-sodium.
OR-01-0028 | 66222 | Galigan 2E | Oxyfluorfen.
OR-03-0034 | 66222 | Galigan 2E | Oxyfluorfen.
OR-06-0010 | 264 | Mocap EC Nematicide—Insecticide | Ethoprop.
OR-06-0024 | 264 | Mocap EC Nematicide—Insecticide | Ethoprop.
OR-06-0027 | 59639 | Select Max Herbicide with Inside Technology | Clethodim.
OR-07-0027 | 34704 | Stealth Herbicide | Pendimethalin.
OR-08-0027 | 264 | Axiom DF Herbicide | Flufenacet; Metribuzin.
OR-09-0003 | 264 | Mocap EC Nematicide—Insecticide | Ethoprop.
OR-09-0021 | 100 | Scholar SC | Fludioxonil.
PA-07-0001 | 352 | DuPont Avaunt Insecticide | Indoxacarb.
SC-88-0001 | 59639 | Orthene 75 S Soluble Powder | Acephate.
SC-98-0002 | 59639 | Select Herbicide | Clethodim.
TN-05-0005 | 352 | DuPont Staple Herbicide | Pyrithiobac-sodium.
TN-08-0013 | 59639 | Safari 20 SG Insecticide | Dinotefuran.
TN-11-0003 | 400 | Terrazole 4EC | Etridiazole.
TX-00-0009 | 59639 | Distance Insect Growth Regulator | Pyriproxyfen.
TX-95-0003 | 5481 | Payload 15 Granular | Acephate.
TX-96-0001 | 5481 | Cobra Herbicide | Lactofen.
TX-96-0016 | 352 | Harmony Extra Herbicide | Thifensulfuron; Tribenuron-methyl.
TX-99-0010 | 241 | Arsenal Herbicide | Imazapyr, isopropylamine salt.
UT-98-0003 | 5481 | Orthene Turf, Tree & Ornamental Spray WSP | Acephate.
VA-08-0002 | 279 | Brigade 2EC Insecticide/Miticide | Bifenthrin.
WA-00-0037 | 100 | Wakil XL | Cymoxanil; Fludioxonil; Metalaxyl-M.
WA-06-0016 | 59639 | Select Max Herbicide with Inside Technology | Clethodim.
WA-08-0011 | 66330 | Evito 480 SC Fungicide | Fluoxastrobin.
WA-10-0007 | 100 | Graduate SC | Fludioxonil.
WA-98-0005 | 34704 | Prometryne 4L Herbicide | Prometryn.
WI-02-0012 | 59639 | Valor WDG Herbicide | Flumioxazin.
WI-07-0001 | 100 | Dual Magnum | S-Metolachlor.
WI-07-0006 | 50534 | Bravo Ultrex | Chlorothalonil.
WI-07-0007 | 50534 | Bravo Weather Stik | Chlorothalonil.
WI-07-0008 | 50534 | Bravo ZN | Chlorothalonil.
WI-08-0001 | 59639 | Safari 20 SG Insecticide | Dinotefuran.
WI-10-0004 | 50534 | Bravo Weather Stik | Chlorothalonil.
WI-12-0001 | 100 | Dual Magnum Herbicide | S-Metolachlor.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
100 | Syngenta Crop Protection, LLC, P.O. Box 18300, Greensboro, NC 27419-8300.
241 | BASF Corp., P.O. Box 13528, Research Triangle Park, NC 27709-3528.
264 | Bayer CropScience, LP, P.O. Box 12014, Research Triangle Park, NC 27709.
279 | FMC Corp. Agricultural Products Group, 1735 Market Street, Room 1978, Philadelphia, PA 19103.
352 | E.I. Du Pont de Nemours & Co., 1007 Market Street, Wilmington, DE 19898-0001.
400 | MacDermid Agricultural Solutions, Inc., 245 Freight Street, Waterbury, CT 06702-1818.
464 | The Dow Chemical Company, 100 Larkin Center, 1650 Joseph Drive, Midland, MI 48674.
961 | Lebanon Seaboard Corporation, 1600 East Cumberland Street, Lebanon, PA 17042.
1381 | Winfield Solutions, LLC, P.O. Box 64589, St. Paul, MN 55164-0589.
1529 | International Specialty Products, An Ashland, Inc. Business, 1005 U.S. 202/206, Bridgewater, NJ 08807.
1839 | Stepan Company, 22 W. Frontage Road, Northfield, IL 60093.
2693 | International Paint, LLC, 2270 Morris Avenue, Union, NJ 07083.
2792 | Decco US Post-Harvest, Inc., 1713 South California Avenue, Monrovia, CA 91016-0120.
3008 | Koppers Performance Chemicals, Inc., 1016 Everee Inn Road, Griffin, GA 30224-0249.
3862 | ABC Compounding Co., Inc., P.O. Box 16247, Atlanta, GA 30321-0247.
5481 | Amvac Chemical Corporation, 4695 MacArthur Court, Suite 1200, Newport Beach, CA 92660-1706.
5813 | The Clorox Co., c/o PS&RC, P.O. Box 493, Pleasanton, CA 94566-0803.
7969 | BASF Corp., Agricultural Products, P.O. Box 13528, Research Triangle Park, NC 27709-3528.
10163 | Gowan Co., P.O. Box 5569, Yuma, AZ 85366-8844.
34704 | Loveland Products, Inc., P.O. Box 1286, Greeley, CO 80632-1286.
35935 | Nufarm Limited, 4020 Aerial Center Pkwy., Suite 101, Morrisville, NC 27560.
39967 | LANXESS Corporation, 111 RIDC Park West Drive, Pittsburgh, PA 15275-1112.
50534 | GB Biosciences Corp., P.O. Box 18300, Greensboro, NC 27419-5458.
57787 | Haviland Consumer Products, Inc., d/b/a Haviland Consumer Products, 421 Ann Street, NW., Grand Rapids, MI 49504-2075.
59639 | Valent U.S.A. Corporation, 1600 Riviera Avenue, Suite 200, Walnut Creek, CA 94596.
62719 | Dow Agrosciences, LLC, 9330 Zionsville Road, Indianapolis, IN 46268-1054.
66222 | Makhteshim Agan of North America, Inc., d/b/a ADAMA, 3120 Highwoods Blvd., Suite 100, Raleigh, NC 27604.
66330 | Arysta Lifescience North America, LLC, 15401 Weston Parkway, Suite 150, Cary, NC 27513.
71368 | NuFarm, Inc., 4020 Aerial Center Pkwy., Suite 101, Morrisville, NC 27560.
71512 | ISK Biosciences Corporation, 7470 Auburn Road, Suite A, Concord, OH 44077.
81880 | Canyon Group, LLC, c/o Gowan Company, 370 S. Main Street, Yuma, AZ 85364.

III. Summary of Public Comments Received and Agency Response to Comments

During the public comment period, EPA received four comments. The first two comments were from Stepan Company first requesting a change and then rescinding their request. The next comment was from Syngenta Crop Protection requesting that EPA Reg. No. OR13009 be retained because the voluntary cancellation request was made in error. The last comment was from a citizen voicing concerns about bee-killing neonic pesticides which was not relevant to this Federal Register notice. As a result of the third comment, the Agency is retaining the registration of EPA Reg. No. OR130009.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is March 17, 2015. Any distribution, sale, or use of existing stocks of the products identified in Table 1 of Unit II. in a manner inconsistent with any of the provisions for disposition of existing stocks set forth in Unit VI. will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 15, 2014 (79 FR 48141) (FRL-9911-69). The comment period closed on February 11, 2015.

VI. Provisions for Disposition of Existing Stocks

Existing stocks are those stocks of registered pesticide products which are currently in the United States and which were packaged, labeled, and released for shipment prior to the effective date of the cancellation action. The existing stocks provisions for the products subject to this order are as follows.

The registrants may not continue to sell and distribute existing stocks of products listed in Table 1 of Unit II. after the date of publication of the Cancellation Order in the Federal Register. Thereafter, the registrants are prohibited from selling or distributing products listed in Table 1, except for export in accordance with FIFRA, section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

Authority: 7 U.S.C. 136 et seq.

Dated: March 9, 2015.
Jack Housenger,
Director, Office of Pesticide Programs.

[FR Doc. 2015-06139 Filed 3-16-15; 8:45 am]

BILLING CODE 6560-50-P